DEPARTMENT OF THE TREASURY

Bureau of Engraving and Printing

Privacy Act of 1974, as Amended; Systems of Records

AGENCY: Bureau of Engraving and Printing, Treasury.

ACTION: Notice of systems of records.

SUMMARY: In accordance with the requirements of the Privacy Act of 1974, as amended, 5 U.S.C. 552a, the Bureau of Engraving and Printing is publishing its inventory of Privacy Act systems of records.

SUPPLEMENTARY INFORMATION: Pursuant to the Privacy Act of 1974 (5 U.S.C. 552a) and the Office of Management and Budget (OMB) Circular No. A-130, Bureau of Engraving and Printing (BEP) has completed a review of its Privacy Act systems of records notices to identify minor changes that will more accurately describe these records.

On May 22, 2007, the Office of Management and Budget (OMB) issued Memorandum M-07-16 entitled “Safeguarding Against and Responding to the Breach of Personally Identifiable Information.” It required agencies to publish the routine use recommended by the President's Identity Theft Task Force. As part of that effort, the Department published the notice of the proposed routine use on October 3, 2007, at 72 FR 56434 and was effective on November 13, 2007. The new routine use has been added to each BEP system of records below. Other changes throughout the document are editorial in nature and consist principally of minor editorial changes and editing of headings for consistency, and to add a “purposes” statement to each system of records notice.

Department of the Treasury regulations require the Department to publish the existence and character of all systems of records every three years (31 CFR 1.23(a)(1)). The BEP has leveraged this requirement to incorporate the review of its current holding of personally identifiable information required by M-07-16. With respect to its inventory of Privacy Act systems of records, the BEP has determined that the information contained in its systems of records is accurate, timely, relevant, complete, and is the minimum necessary to maintain the proper performance of a documented agency function.

Systems Covered by This Notice

This notice covers all systems of records adopted by the Bureau of Engraving and Printing up to September 2, 2008. The systems notices are reprinted in their entirety following the Table of Contents.

Dated: June 23, 2009.
Elizabeth Cuffe,
Deputy Assistant Secretary for Privacy and Treasury Records.

Table of Contents

Bureau of Engraving and Printing (BEP)

BEP .002—Personal Property Claim File

BEP .004—Counseling Records

BEP .005—Compensation Claims

BEP .006—Debt Files (Employees)

BEP .014—Employee's Production Record

BEP .016—Employee Suggestions

BEP .020—Industrial Truck Licensing Records

BEP .021—Investigative Files

BEP .027—Access Control and Alarm Monitoring Systems (ACAMS)

BEP .035—Tort Claims (Against the United States)

BEP .038—Unscheduled Absence Record

BEP .041—Record of Discrimination Complaints

BEP .045—Mail Order Sales Customer Files

BEP .046—Automated Mutilated Currency Tracking System

BEP .047—Employee Emergency Notification System

TREASURY/BEP .002

System Name:

Personal Property Claim File—Treasury/BEP.

System Location:

Bureau of Engraving and Printing, 14th and C Streets, SW., Washington, DC 20228, and the Bureau of Engraving and Printing, Western Currency Facility, 9000 Blue Mound Road, Ft. Worth, Texas 76131.

Categories of Individuals Covered By the System:

Civilian officers and employees of the Bureau of Engraving and Printing, former employees and their survivors having claim for damage to or loss of personal property incident to their service.

Categories of Records in the System:

Contains investigative and adjudication documents relative to personal property damage claim.

Authority for Maintenance of the System:

Military Personnel and Civilian Employees' Claims Act of 1964, 31 U.S.C.S. 3721, as amended, Public Law 110-195.

Purpose(s):

The purpose of this system is to permit the Bureau to more effectively and efficiently process and manage claims, and to provide statistics that allow us to focus our resources in order to continually improve the safety of our workforce, work environment, and equipment.

Routine Uses of Records Maintained in the System, Including Categories of Users and the Purposes of Such Uses:

These records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2 which relate to an agency's functions relating to civil and criminal proceedings;

(6) Provide information to unions recognized as exclusive bargaining representatives under the Civil Service Reform Act of 1978, 5 U.S.C. 7111 and 7114; and

(7) Provide information to third parties during the course of an investigation to the extent necessary to obtain information pertinent to the investigation, and

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices For Storing, Retrieving, Accessing, Retaining, Disposing of Records in the System:

Storage:

File folder.

Retrievability:

By name.

Safeguards:

Access is limited to Office of Chief Counsel staff.

Retention and Disposal:

Retained three years after case is closed, then destroyed.

System Manager(s) and Address:

Office of Chief Counsel, Bureau of Engraving and Printing, 14th and C Streets, SW., Washington, DC 20228, and the Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individuals having claim for damage to or loss of personal property.

Exemptions Claimed for the System:

None.

TREASURY/BEP .004

System Name:

Counseling Records—Treasury/BEP.

System Location:

Bureau of Engraving and Printing, 14th and C Streets, SW., Washington, DC 20228, and Bureau of Engraving and Printing, Western Currency Facility, 9000 Blue Mound Road, Ft. Worth, Texas 76131.

Categories of Individuals Covered By the System:

Employees whose actions or conduct warrants counseling.

Categories of Records in the System:

Contains correspondence relative to counseling information and follow-up reports.

Authority For Maintenance of the System:

5 U.S.C. 301.

Purpose:

To provide a history and record of the employee counseling session.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains, contingent upon that individual signing a release of information form;

(5) Provide information to the news media in accordance with guidelines contained in 28 CFR 50.2 which relate to an agency's functions relating to civil and criminal proceedings;

(6) Provide general educational information to unions recognized as exclusive bargaining representatives under the Civil Service Reform Act of 1978, 5 U.S.C. 7111 and 7114;

(7) Provide information to third parties during the course of an investigation to the extent necessary to obtain information pertinent to the investigation, and

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

Maintained in file folders.

Retrievability:

By name.

Safeguards:

Locked in file cabinets; access is limited to Managers and Supervisors and, in the event of disciplinary action, the Employee and Labor Relations staff.

Retention and Disposal:

Retained for one year after close of file, then destroyed.

System Manager(s) and Address:

Chief, Office of Human Resources, 14th and C Streets, SW., Washington, DC 20228.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individual employee.

Exemptions Claimed For the System:

None

TREASURY/BEP .005

System Name:

Compensation Claims—Treasury/BEP.

System Location:

Compensation Staff, Personnel Services Division, Office of Human Resources, Employee Labor Management Relations Division, Bureau of Engraving and Printing, 14th and C Streets, SW., Washington, DC 20228, and Human Resource Management Division, Bureau of Engraving and Printing, Western Currency Facility, 9000 Blue Mound Road, Fort Worth, Texas 76131.

Categories of Individuals Covered By the System:

Bureau of Engraving and Printing employees incurring work-connected injuries or illnesses, who make claims under Federal Employee Compensation Act for medical expenses, lost wages, leave buy-back, scheduled awards continuation of pay or disability.

Categories of Records in the System:

All pertinent documentation, including investigative reports, medical reports, forms, letters, DOL-OWCP letters, etc. relative to work-connected injuries or illnesses of employees.

Authority For Maintenance of the System:

Federal Employees Compensation Act, as amended, and in 20 CFR Part 10.

Purpose(s):

The purpose of this system is to permit the Bureau to more effectively and efficiently process and manage claims, and to provide statistics and information to the DOL-OWCP. It also allows us to focus our resources in order to continually improve the safety of our workforce and work environment.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) Provide information to unions recognized as exclusive bargaining representatives under the Civil Service Reform Act of 1978, 5 U.S.C. 7111 and 7114; and

(8) Provide information to third parties during the course of an investigation to the extent necessary to obtain information pertinent to the investigation;

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

File folder, magnetic media and computer disks.

Retrievability:

Name and date of injury.

Safeguards:

Locked file cabinets, locked computers, passwords. Access is limited to Compensation Claims staff and Safety managers.

Retention and Disposal:

Records are retained for three years after DOL-OWCP closes the case and no further medical expenses are being paid, then destroyed.

System Manager(s) and Address:

(1) Manager, Human Resource Division, Office of Human Resources, Bureau of Engraving and Printing, 14th and C Streets, SW., Washington, DC 20228. (2) Manager, Human Resource Management Division, Bureau of Engraving and Printing, Western Currency Facility, 9000 Blue Mound Road, Fort Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Occupational Health Unit Daily Report, medical providers, employee's supervisor's report, and information provided by the employee.

Exemptions Claimed for the System:

None.

TREASURY/BEP .006

System Name:

Debt Files (Employees)—Treasury/BEP.

System Location:

Bureau of Engraving and Printing, 14th and C Streets, SW., Washington, DC 20228.

Categories of Individuals Covered By the System:

Current and former Bureau of Engraving and Printing employees against whom garnishment proceedings or debt complaints have been filed.

Categories of Records in the System:

May contain correspondence; complaint information, including counseling efforts and final disposition of complaints; court judgments; writs, orders, summons, or other legal process in the nature of garnishment; child support account numbers; names and addresses of current employers of former agency employees; and records on current or former employees to include name, social security number, address, phone number, position, wages, and employment benefits.

Authority for Maintenance of the System:

5 U.S.C. 301, 5 U.S.C. 5520a, 31 U.S.C. 321, 42 U.S.C. 659, 44 U.S.C. 3101, and E.O. 9397.

Purpose(s):

The purpose of this system is to maintain records about individuals who owe debt(s) to the United States, through one or more of its departments and agencies, and/or to individuals, including past due support enforced by states. The information contained in the records is maintained for the purpose of taking action to facilitate the collection and resolution of the debt(s) using various collection methods, including, but not limited to, offset, levy, administrative wage garnishment.

Routine Uses of Records Maintained in the System, Including Categories of Users and the Purposes of Such Uses:

These records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) Provide information to unions recognized as exclusive bargaining representatives under the Civil Service Reform Act of 1978, 5 U.S.C. 7111 and 7114, and

(8) Provide information to third parties during the course of an investigation to the extent necessary to obtain information pertinent to the investigation.

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices For Storing, Retrieving, Accessing, Retaining, Disposing of Records in the System:

Storage:

Maintained in file folders.

Retrievability:

By name.

Safeguards:

Maintained in locked cabinets; access is limited to Employee and Management Relations Division, Human Resources Division and the Office of the Chief Counsel personnel.

Retention and Disposal:

Debt files are temporary records and are destroyed 3 years after termination of the garnishment or final disposition of the debt complaint.

System Manager(s) and Address:

(1) Chief, Office of Human Resources and the Office of the Chief Counsel, Bureau of Engraving and Printing; 14th and C Streets, SW., Washington, DC 20228. (2) Manager, Human Resources Division, and the Office of Chief Counsel, Bureau of Engraving and Printing, Western Currency Facility, 9000 Blue Mound Road, Fort Worth, TX 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Employees, complainants, creditors, court judgments, garnishment orders, and personnel records.

Exemptions Claimed For the System:

None.

TREASURY/BEP.014

System Name:

Employee's Production Record—Treasury/BEP.

System Location:

Bureau of Engraving and Printing, 14th and C Streets, SW., Washington, DC 20228, and Bureau of Engraving and Printing, Western Currency Facility, 9000 Blue Mound Road, Fort Worth, TX 76131.

Categories of Individuals Covered By the System:

All current Washington, DC and Fort Worth, TX Bureau of Engraving and Printing employees.

Categories of Records in the System:

Contains employee's name, dates, work hours, record of production, history of work assignments, training, work performance, and progress reports.

Authority For Maintenance of the System:

5 U.S.C. 301, 4103, and 4302.

Purpose(s):

The purpose of this system is to permit the Bureau to maintain performance records used to support awards, promotions, performance-based actions, training and other personnel actions, and to track and evaluate performance based upon the accomplishments of each employee.

Routine Uses of Records Maintained in the System, Including Categories of Users and the Purposes of Such Uses:

These records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2 which relate to an agency's functions relating to civil and criminal proceedings;

(6) Provide information to unions recognized as exclusive bargaining representatives under the Civil Service Reform Act of 1978, 5 U.S.C. 7111 and 7114, and

(7) Provide information to third parties during the course of an investigation to the extent necessary to obtain information pertinent to the investigation.

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

Maintained in data entry diskettes, file folders and production books and reports.

Retrievability:

Indexed by name, work code number and cross-referenced by project number.

Safeguards:

Maintained in locked cabinets or desks; access is limited to personnel having a “need-to-know.”

Retention and Disposal:

Retained three years, then destroyed.

System Manager(s) and Address:

Office of Chief Counsel; Chief, BEP Resolution Center; Chief, Office of Human Resources; Chief, Office of Security Printing Operations, Chief, Office of Engraving; Chief, Office of Procurement; Chief, Office of Production Management; Chief, Office of External Relations; Chief, Office of Facilities Support; Chief, Office of Compliance; Chief, Office of Environment and Safety; Chief, Office of Critical Infrastructure & IT Security; Chief, Office of IT Operations; Chief, Office of Quality; Chief, Securities Technology and Chief, Office of Security.

Address: Bureau of Engraving and Printing; 14th and C Streets, SW., Washington, DC 20228. Associate Director, Western Currency Facility, Bureau of Engraving and Printing, Western Currency Facility, 9000 Blue Mound Road, Fort Worth, TX 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Information furnished by employee, developed by supervisor or by referral document.

Exemptions Claimed For the System:

None.

TREASURY/BEP .016

System Name:

Employee Suggestions—Treasury/BEP.

System Location:

Bureau of Engraving and Printing, 14th and C Streets, SW., Washington, DC 20228, and Bureau of Engraving and Printing, Western Currency Facility, 9000 Blue Mound Road, Ft. Worth, Texas 76131.

Categories of Individuals Covered By the System:

All Bureau of Engraving and Printing employees submitting suggestions under the incentive award program.

Categories of Records in the System:

Contains employee's suggestion, reviewer evaluation and final disposition information.

Authority for Maintenance of the System:

Title 5, U.S.C., 4502(c).

Purpose(s):

The purpose of this system is to permit the Bureau to maintain records on the suggestions submitted by employees and are used to support awards if the suggestions are adopted.

Routine Uses of Records Maintained in the System, Including Categories of Users and the Purposes of Such Uses:

These records may be used to:

(1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2 which relate to an agency's functions relating to civil and criminal proceedings;

(6) Provide information to unions recognized as exclusive bargaining representatives under the Civil Service Reform Act of 1978, 5 U.S.C. 7111 and 7114, and

(7) Provide information to third parties during the course of an investigation to the extent necessary to obtain information pertinent to the investigation.

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

Maintained in file folders, as well as on computer disks.

Retrievability:

Indexed by name.

Safeguards:

Maintained in locked file cabinets; access is limited to the Suggestion Program Coordinator and the designated OHR and HRM Division staff.

Retention and Disposal:

Retained for three years following date of submission, then destroyed.

System Manager(s) and Address:

Chief, Office of Human Resources, Bureau of Engraving and Printing; 14th and C Streets, SW., Washington, DC 20228, and the Manager, Human Resource Management Division, Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individual employee, employee's supervisor and review committee.

Exemptions Claimed for the System:

None.

TREASURY/BEP .020

System Name:

Industrial Truck Licensing Records—Treasury/BEP.

System Location:

Bureau of Engraving and Printing, 14th and C Streets, SW., Washington, DC 20228, and Bureau of Engraving and Printing, Western Currency Facility, 9000 Blue Mound Road, Ft. Worth, Texas 76131.

Categories of Individuals Covered By the System:

Bureau of Engraving and Printing employees designated to operate self-propelled material and/or machinery handling equipment.

Categories of Records in the System:

Record of employee physical examination, testing, license number and issue date for purpose of operating one or more types of material handling equipment used within the Bureau of Engraving and Printing.

Authority For Maintenance of the System:

5 U.S.C. 301.

Purpose:

This system of records is used to document who is authorized to operate self-propelled material and/or machinery handling equipment. In addition, it keeps track of the expiration dates of the licenses.

Routine Uses of Records Maintained in the System, Including Categories of Users and the Purposes of Such Uses:

These records may be disclosed to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices For Storing, Retrieving, Accessing, Retaining, Disposing of Records in the System:

Storage:

File folder and Card file.

Retrievability:

By Name.

Safeguards:

Locked file cabinet, access is limited to Office of Environment Safety and Health, and the General Stores, Receiving and Mail Section personnel.

Retention and Disposal:

Destroyed three years after license revocation.

System Manager(s) and Address:

Chief, Office of Environment Health and Safety, Bureau of Engraving and Printing; 14th and C Streets, SW., Washington, DC 20228 and the Associate Director, Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Supervisor's request, results of physical examination, and data obtained during training or practical tests.

Exemptions Claimed For the System:

None.

TREASURY/BEP .021

System Name:

Investigative Files—Treasury/BEP.

System Location:

Bureau of Engraving and Printing, 14th and C Streets, SW., Washington, DC 20228, and Bureau of Engraving and Printing, Western Currency Facility, 9000 Blue Mound Road, Fort Worth, Texas 76131.

Categories of Individuals Covered By the System:

Employees, Separated Bureau Employees, Employee Applicants, Visitors to the Bureau, News-Media Correspondents, Contractor and Service Company Employees (Current and Separated).

Categories of Records in the System:

Category: Security Files, Personnel Clearance Requests, Case Files, Bank Shortage Letters, Contractor Files, Currency Discrepancy Reports, Intelligence Files, Stamp Discrepancy Reports, Case Records, Correspondence from the Public concerning Security Matters, Security Files Reference Record, Employee Indebtedness Record, Type of Information: Character references, Police force reports, Previous employment verifications, Newspaper articles, Social Security numbers, Laboratory reports to include handwriting results and latent fingerprint examinations, Law enforcement criminal and subversive record checks, Court records, Security registers, Residency information, Reports of shortages or thefts of Bureau products including subsequent investigations, Personnel records of various types, Fingerprint card, Photograph, Names of individuals including those at contractor plants who worked on a shortage involving Bureau products, Credit checks, Background investigation reports conducted by Office of Personnel Management, Bureau of Engraving and Printing, the Internal Revenue Service and other Federal Investigative Agencies, Disciplinary action recommended and/or received, Military record forms and extracted information, List of Bureau employees granted security clearances, Processes served, i.e., summons, subpoenas, warrants, etc., Personnel security case numbers, dates—case opened and closed, and recommendations, Certificate of Security Clearance, Reports of violations of Bureau regulations and procedures, Bureau visitor control documents, Correspondence relating to individuals, Claims of indebtedness from firms and collection agencies and other sources, and assorted documents, recorded audio or video testimony, Bureau investigation reports, information supplied by Law Enforcement agencies, Applicant interview record, Anonymous tips concerning Bureau employees, Official investigative statements, Names of those requesting security assistance and report of the assistance rendered, other pertinent Governmental records, education records and information, Date of Birth and physical description of individual in the files.

Authority For Maintenance of the System:

31 U.S.C. 321, Executive Order 10450 and implementing Treasury and Bureau Regulations.

Purpose(s):

This system is to permit the Bureau to collect and maintain background investigation records on potential applicants, and current Bureau employees and contractors for issuance of security clearances, access to Bureau facilities or other administrative reasons. Information is also collected as part of investigations conducted by the Bureaus' Office of Security.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) Provide information to unions recognized as exclusive bargaining representatives under the Civil Service Reform Act of 1978, 5 U.S.C. 7111 and 7114, and

(8) Provide information to third parties during the course of an investigation to the extent necessary to obtain information pertinent to the investigation.

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices For Storing, Retrieving, Accessing, Retaining, Disposing of Records in the System:

Storage:

File Folders, 3 x 5 Index Cards, 5 x 8 Index Cards, Loose-leaf Binders, Ledgers, Recordings on tape, magnetic, electronic or optical media, Computer Database Programs, and Microfiche.

Retrievability:

Numerically by case number and year, alphabetically by name and social security number, and alphabetically by Company name.

Safeguards:

Access is limited to Office of Security and Western Currency Facility Security Division personnel. Records are maintained in locked file cabinets and secured computers.

Retention and Disposal:

Destroyed within 90 days following notification of an employee's death, or, within five years after separation or transfer of incumbent employee; or, five years after expiration of contractual relationship. Product Discrepancy Investigative Reports and Bank Letter Investigative Reports are retained indefinitely.

System Manager(s) and Address:

Chief, Office of Security, Bureau of Engraving and Printing, 14th and C Streets, SW., Washington, DC 20228, and Security Division personnel, Bureau of Engraving and Printing, Western Currency Facility, 9000 Blue Mound Road, Fort Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

The sources of the information are the individual concerned and information supplied by Federal, State and local investigative agencies, credit bureaus, financial institutions, court records, educational institutions, and individuals contacted concerning the person being investigated.

Exemptions Claimed for the System:

This system is exempt from 5 U.S.C. 552a(c)(3), (d), (e)(1), (e)(4)(G), (e)(4)(H), (e)(4)(I) and (f) of the Privacy Act pursuant to 5 U.S.C. 552a(k)(2). See 31 CFR 1.36.

TREASURY/BEP .027

System Name:

Access Control and Alarm Monitoring Systems (ACAMS)—Treasury/BEP.

System Location:

Bureau of Engraving and Printing, 14th and C Streets, SW., Washington, DC 20228, and Bureau of Engraving and Printing, Western Currency Facility, 9000 Blue Mound Road, Fort Worth, Texas 76131.

Categories of Individuals Covered By the System:

Bureau of Engraving and Printing Employees (Washington, DC and Fort Worth, Texas); employees of other U.S. Government agencies, contractors and service company employees who have been cleared for access to the Bureau of Engraving and Printing and issued BEP Access Badges, and escorted visitors; i.e., contractors and service company employees who have not undergone the formal clearance to enter the Bureau of Engraving and Printing.

Categories of Records in the System:

(A) The following information is maintained concerning all individuals who are issued BEP access badges with photographs: Photograph; Full name; Social Security number; date of birth; badge number; supervisory status, work telephone; work area number; BEP access clearance level; date BEP access level granted; date last security background investigation was completed; BEP access level; BEP access time zone; date access badge issued; date access badge voided; and time, date and location of each passage through a security control point, (B) In the case of BEP employees and contractors issued “Temporary Access” badges and contractors and others issued “No Escort” badges, in lieu of his/her BEP access badge with photograph, the same information as in paragraph A (above) is kept, and (C) Official visitors, contractors, and others issued “Escort Visitor” badges: full name, date of issue, and date, time and location of each passage through a security control point is maintained in the BEP ACAMS.

Authority For Maintenance of the System:

31 U.S.C. 321, 5 U.S.C. 301 and 5 U.S.C. 6106.

Purpose:

The purpose of this system is to maintain a record of those persons who entered the Bureau premises and the time and areas visited for internal security use. This system of records is used to assist in maintaining the security of the Bureau premises and to permit the identification of individuals on the premises at particular times.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2 which relate to an agency's functions relating to civil and criminal proceedings;

(7) Provide information to unions recognized as exclusive bargaining representatives under the Civil Service Reform Act of 1978, 5 U.S.C. 7111 and 7114, and

(8) Provide information to third parties during the course of an investigation to the extent necessary to obtain information pertinent to the investigation.

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices For Storing, Retrieving, Accessing, Retaining, Disposing of Records in the System:

Storage:

Magnetic media and computer printouts.

Retrievability:

Numerical by PASS/badge number, alphabetically by last name, and appropriate index by subject.

Safeguards:

Records are maintained in locked cabinets in a locked room; access is limited to Technical Security Division, Office of Security, senior management staff, Office of Security, the staff of the Internal Review Division, Office of Management Control and the Security Division personnel at the Fort Worth, Texas facility. On-line terminals are installed in a locked 24-hour manned Central Police Operations Center and the Security Systems Operations Center (SSOC) at the Washington, DC facility. These terminals are on lines that can be manually activated and deactivated in the Security Systems Operations Center (SSOC).

Retention and Disposal:

The retention period is for two (2) years.

System Manager(s) and Address:

Manager, Technical Security Division, Office of Security, Bureau of Engraving and Printing, 14th and C Streets, SW., Washington, DC 20228, and Manager, Security and Police Division, Bureau of Engraving and Printing, Western Currency Facility, 9000 Blue Mound Road, Fort Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

The individual concerned, his/her supervisor, or an official of the individual's firm or agency.

Exemptions Claimed for the System:

None.

TREASURY/BEP .035

System Name:

Tort Claims (Against the United States)—Treasury/BEP.

System Location:

Bureau of Engraving and Printing, 14th and C Streets, SW., Washington, DC 20228, and the Bureau of Engraving and Printing, Western Currency Facility, 9000 Blue Mound Road, Ft. Worth, Texas 76131.

Categories of Individuals Covered By the System:

Individuals and/or organizations making claim for money damage against the United States for injury to or loss of property or personal injury or death caused by neglect, wrongful act, or omission of a Bureau of Engraving and Printing employee while acting within the scope of his office or employment.

Categories of Records in the System:

Contains investigative and adjudication documents relative to personal injury and/or property damage claims.

Authority for Maintenance of the System:

Federal Tort Claims Act, Title 28 U.S.C. 2672, Public Law 110-197.

Purpose:

This system of records is used by the Bureau to track the Claims submitted, including the progress and adjudication, and the final disposition thereof.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to unions recognized as exclusive bargaining representatives under the Civil Service Reform Act of 1978, 5 U.S.C. 7111 and 7114, and

(6) Provide information to third parties during the course of an investigation to the extent necessary to obtain information pertinent to the investigation.

(7) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

File folder.

Retrievability:

By name.

Safeguards:

Access is limited to Office of Chief Counsel staff.

Retention and Disposal:

Retained three years, then destroyed.

System Manager(s) and Address:

Office of Chief Counsel, Bureau of Engraving and Printing; 14th and C Streets, SW., Washington, DC 20228, and the Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individual or organization's claim and/or investigative reports.

Exemptions Claimed for the System:

None.

TREASURY/BEP .038

System Name:

Unscheduled Absence Record—Treasury/BEP.

System Location:

Bureau of Engraving and Printing, 14th and C Streets, SW., Washington, DC 20228, and Bureau of Engraving and Printing, Western Currency Facility, 9000 Blue Mound Road, Ft. Worth, Texas 76131.

Categories of Individuals Covered By the System:

All Bureau of Engraving and Printing employees who have had unscheduled absences.

Categories of Records in the System:

Record contains chronological documentation of unscheduled absences.

Authority For Maintenance of the System:

5 U.S.C. 301.

Purpose:

To provide a history and a record of the employee's unscheduled absences.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to unions recognized as exclusive bargaining representatives under the Civil Service Reform Act of 1978, 5 U.S.C. 7111 and 7114; and

(6) Provide information to third parties during the course of an investigation to the extent necessary to obtain information pertinent to the investigation.

(7) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

Maintained in file folders.

Retrievability:

By name.

Safeguards:

Kept in locked file cabinets; access to these records is restricted to Supervisor and authorized timekeeping personnel.

Retention and Disposal:

Retained for one year following separation or transfer, then destroyed.

System Manager(s) and Address:

Chief, Office of Human Resources, Bureau of Engraving and Printing, 14th and C Streets, SW., Washington, DC 20228, and Human Resources Division, Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individual employee's time and attendance records, and his/her supervisor.

Exemptions Claimed For the System:

None.

TREASURY/BEP .041

System Name:

Record of Discrimination Complaints—Treasury/BEP.

System Location:

Bureau of Engraving and Printing, 14th and C Streets, SW., Washington, DC 20228, and Bureau of Engraving and Printing, Western Currency Facility, 9000 Blue Mound Road, Ft. Worth, Texas 76131.

Categories of Individuals Covered By the System:

Employees who have initiated discrimination complaints.

Categories of Records in the System:

Data developed as a result of inquiry by the person making the allegation of discrimination.

Authority for Maintenance of the System:

Executive Order 11478.

Purpose(s):

To provide a history and record of the employee counseling session. Documentation of all statements made will be kept for use in the resolution of the case and forwarded, if need be, to the EEOC.

Routine Uses of Records Maintained in the System, Including Categories of Users and the Purposes of Such Uses:

These records may be used to:

(1) Disclose to EEOC to adjudicate discrimination complaints;

(2) Disclose pertinent information to appropriate Federal, State, local or foreign agencies responsible for investigating or prosecuting the violations of, or for enforcing or implementing, a statute, rule, regulation, order, or license, where the disclosing agency becomes aware of an indication of a violation or potential violation of civil or criminal law or regulation;

(3) Disclose information to a Federal, State, or local agency, maintaining civil, criminal or other relevant enforcement information or other pertinent information, which has requested information relevant to or necessary to the requesting agency's or the bureau's hiring or retention of an individual, or issuance of a security clearance, license, contract, grant, or other benefit;

(4) Disclose information to a court, magistrate, or administrative tribunal in the course of presenting evidence, including disclosures to opposing counsel or witnesses in the course of civil discovery, litigation, or settlement negotiations, in response to a subpoena, or in connection with criminal law proceedings;

(5) Provide information to a congressional office in response to an inquiry made at the request of the individual to whom the record pertains;

(6) Provide information to unions recognized as exclusive bargaining representatives under the Civil Service Reform Act of 1978, 5 U.S.C. 7111 and 7114; and

(7) Provide information to third parties during the course of an investigation to the extent necessary to obtain information pertinent to the investigation.

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, Disposing of Records in the System:

Storage:

Maintained in file folders. Locked in combination safe.

Retrievability:

By name and case number.

Safeguards:

Access is limited to Complainants and Bureau Resolution Center; maintained in locked combination safe.

Retention and Disposal:

Retained four years after resolution, then destroyed.

System Manager(s) and Address:

Chief, Bureau Resolution Center, Bureau of Engraving and Printing, 14th and C Streets, SW., Washington, DC 20228, and the Bureau of Engraving and Printing, Western Currency Facility, 9000 Blue Mound Road, Ft. Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individual employees who have discrimination complaints.

Exemptions Claimed For the System:

None.

TREASURY/BEP .045

System Name:

Mail Order Sales Customer Files-Treasury/BEP

System Location:

Bureau of Engraving and Printing, 14th and C Streets, SW., Washington, DC 20228.

Categories of Individuals Covered By the System:

Customers ordering engraved prints and numismatic products from the Bureau of Engraving and Printing through the mail, and those individuals who have requested that their names be placed on the BEP mailing list.

Categories of Records in the System:

Mail order customer's names, addresses, company names, credit card numbers and expiration dates; history of customer sales; and inventory data.

Authority for Maintenance of the System:

5 U.S.C. 301.

Purpose(s):

The purpose of this system is to permit the Bureau to: Maintain a mailing list of customers and interested parties to provide continuous communication and/or promotional materials about existing and upcoming product offerings, record and maintain records of customer, interested party and order information and requests for promotional materials, and to capture orders through each stage of the order life cycle; research and resolve orders that were not successfully delivered to customers and interested parties; and maintain a list of its products and to monitor and maintain product and promotional material inventory levels to meet customer and interested party demand.

Routine Uses of Records Maintained in the System Including Categories of Users and the Purposes of Such Uses:

(1) These records and information from these records may be used to electronically transmit credit card information to obtain approval or disapproval from the issuing financial institution. Categories of users include personnel involved in credit card approval, and

(2) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Disclosure to Consumer Reporting Agencies:

Debt information concerning a Government claim against an individual is also furnished, in accordance with 5 U.S.C. 552a(b)(12) and Section 3 of the Debt Collection Act of 1982 (Pub. L. 97-365), to consumer reporting agencies to encourage repayment of an overdue debt.

Policies and Practices for Storing, Retrieving, Accessing, Retaining, and Disposing of Records in the System:

Storage:

Records consist of paper records maintained in file folders and in electronic media.

Retrievability:

By customer name, order number or customer number.

Safeguards:

Access is limited to those authorized individuals who process orders, research customer orders or maintain the computer system. In addition, files and computer data are maintained in a secured area. Access to electronic records is by password.

Retention and Disposal:

Files on customers who have not purchased any products are kept for two years, after which they are taken out of the active system and placed in a separate storage file. This file generates two additional annual mailings after which time they are purged from the system. (Should a customer reorder after being placed on this file, they will be assigned a new customer number and placed back in the main system).

System Manager(s) and Address:

Chief, Office of External Relations, Bureau of Engraving and Printing, 14th and C Streets, SW., Room 107-M, Washington, DC 20228.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Records Access Procedures:

See “Notification procedure” above.

Contesting Records Procedures:

See “Notification procedure” above.

Record Source Categories:

Customers, BEP employees, financial institutions.

Exemptions Claimed For the System:

None.

TREASURY/BEP .046

System Name:

Automated Mutilated Currency Tracking System—Treasury/BEP.

System Location:

Bureau of Engraving and Printing, 14th and C Streets, SW., Washington, DC 20228.

Categories of Individuals Covered By the System:

Individuals and financial institutions sending in mutilated paper currency claims.

Categories of Records in the System:

Mutilated currency claimants' names, addresses, company names, amount of claims, amount paid, types of currency and condition of currency.

Authority for Maintenance of the System:

5 U.S.C. 301, 12 U.S.C. 413, and 31 U.S.C. 321.

Purpose(s):

The purpose of the Automated Mutilated Currency Tracking System is to maintain historical information and to respond to claimants' inquiries, e.g., non-receipt of reimbursement, status of case, etc.

Routine Uses of Records Maintained in the System, Including Categories of Users and the Purposes of Such Uses:

These records may be used to: (1) Disclose pertinent information to appropriate Federal, State, local or foreign agencies responsible for investigating or prosecuting the violations of, or for enforcing or implementing, a statute, rule, regulation, order, or license, where the disclosing agency becomes aware of an indication of a violation or potential violation of civil or criminal law or regulation;

(2) Disclose information to a Federal, State, or local agency, maintaining civil, criminal or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2 which relate to an agency's functions relating to civil and criminal proceedings;

(6) Provide information to unions recognized as exclusive bargaining representatives under the Civil Service Reform Act of 1978, 5 U.S.C. 7111 and 7114, and

(7) Provide information to third parties during the course of an investigation to the extent necessary to obtain information pertinent o the investigation.

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records consist of paper records maintained in file folders and records in electronic media.

Retrievability:

By claimant name, case number, address or registered mail number.

Safeguards:

Access is limited to those specific employees who process the mutilated currency cases, prepare payment, research inquiries or maintain the computer system. In addition, files and computer data are maintained in a secured area. Access to electronic records is by password.

Retention and Disposal:

Active claimant files are maintained for two years. Inactive files are maintained for seven years. After seven years, the files are purged from the system and then destroyed. (Inactive files are those for which final payments have been made.)

System Manager(s) and Address:

Chief, Office of Financial Management and Manager, Mutilated Currency Redemption Division, Bureau of Engraving and Printing, 14th and C Streets, SW., Room 344A, Washington, DC 20228.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedure:

See “Notification procedure” above.

Contesting Record Procedures:

See “Notification procedure” above.

Record Source Categories:

Individuals, banking institutions and BEP employees.

Exemptions Claimed For the System:

None.

TREASURY/BEP .047

System Name:

Employee Emergency Notification System—Treasury/BEP.

System Location:

Records are maintained at the following Bureau of Engraving and Printing locations: (1) 14th and C Streets, SW., Washington, DC 20228; and (2) 9000 Blue Mound Road, Ft. Worth, Texas 76131.

Categories of Individuals Covered By the System:

Records cover those Bureau employees who have voluntarily provided personal information.

Categories of Records in the System:

The types of personal information collected by this system are necessary to ensure the timely emergency notification to individuals that employees have identified. The types of personal information presently include or potentially could include the following:

(a) Personal identifiers (name; home, work and electronic addresses; telephone, fax, and pager numbers);

(b) Emergency notification (name of person to be notified; address; telephone number).

Authority for Maintenance of the System:

44 U.S.C. 3101, and 5 U.S.C. 301.

Purpose(s):

The purpose of this system of records is to provide emergency notification to those person(s) as voluntarily provided by employees, emergency service providers and law enforcement officials.

Routine Uses of Records Maintained in the System, Including Categories of Users and the Purposes of Such Uses:

These records may be disclosed to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System: Storage:

Records are maintained on manual locator cards and electronic media.

Retrievability:

Records may be retrieved by name, or other unique identifier.

Safeguards:

BEP has sophisticated Internet firewall security via hardware and software configurations as well as specific monitoring tools. Records are maintained in controlled access areas. Identification cards are verified to ensure that only authorized personnel are present. Electronic records are protected by restricted access procedures, including the use of passwords, sign-on protocols, and user authentication that are periodically changed. Only employees whose official duties require access are allowed to view, administer, and control these records.

Retention and Disposal:

Records will be updated by the employees on a voluntary basis and kept for the duration of the individual's employment. Records can be destroyed at any time at the direction of the employee. Paper records that are ready for disposal are destroyed by shredding or burning. Records in electronic media are electronically erased using accepted techniques.

System Manager and Address:

Chief, Office of Human Relations, Bureau of Engraving and Printing, 14th and C Streets, SW., Washington, DC 20228, and Facilities Division Manager, Bureau of Engraving and Printing, Western Currency Facility, 9000 Blue Mound Road, Fort Worth, Texas 76131.

Notification Procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th and C Streets, SW., Washington, DC 20228.

Record Access Procedures:

See “Notification procedure” above.

Record Source Categories:

See “Notification procedure” above.

Contesting Record Procedures:

See “Notification procedure” above.

Exemptions Claimed for the System:

None.

[FR Doc. E9-15229 Filed 6-26-09; 8:45 am]

BILLING CODE 4810-39-P